DEPARTMENT OF STATE

[Public Notice: 11510]

Notice of Department of State Sanctions Actions Sanctions Blocking Property and Suspending Entry of Certain Persons Contributing to the Situation in Syria

SUMMARY: The Secretary of State has imposed sanctions on three individuals pursuant to E.O. 13894, Sanctions Blocking Property and Suspending Entry of Certain Persons Contributing to the Situation in Syria.

DATES: The Secretary of State's determination and selection of certain sanctions to be imposed upon the entity identified in the SUPPLEMENTARY INFORMATION section were effective on July 28, 2021.

FOR FURTHER INFORMATION CONTACT: Jim Mullinax, Director, Office of Economic Sanctions Policy and Implementation, Bureau of Economic and Business Affairs, Department of State, Washington, DC 20520, tel.: (202) 647-7677, email: MullinaxJD@state.gov.

SUPPLEMENTARY INFORMATION: Pursuant to Section 2(a) of E.O. 13894 of October 14, 2019, the Secretary of State, in consultation with the Secretary of the Treasury, and other officials of the U.S. Government as appropriate, is authorized to impose on a person any of the sanctions described in sections 2(b) and 2(c) of E.O. 13894 upon determining that the person met any criteria set forth in section 2(a) of E.O. 13894.

The Secretary of State has determined, pursuant to Section 2(a)(i)(A) of E.O. 13894, that Saraya al-Areen is responsible for or complicit in, has directly or indirectly engaged in, attempted to engage in, or financed, the obstruction, disruption, or prevention of a ceasefire in northern Syria.

Pursuant to Sections 2(b) and 2(c) of E.O. 13894, the Secretary of State has selected the following sanctions to be imposed upon Saraya al-Areen:

• Block all property and interests in property that are in the United States, that hereafter come within the United States, or that are or hereafter come within the possession or control of any United States person of Saraya al-Areen, and provide that such property and interests in property may not be transferred, paid, exported, withdrawn, or otherwise dealt in (Section 2(c)(iv) of E.O. 13894).

Peter D. Haas,
Assistant Secretary, Acting, Bureau of Economic and Business Affairs, Department of State.

[FR Doc. 2021-18477 Filed 8-26-21; 8:45 am]

BILLING CODE 4710-AE-P